DEPARTMENT OF TRANSPORTATION

Federal Railroad Administration

[Docket No. FRA-2000-7257, Notice No. 92]

Railroad Safety Advisory Committee; Notice of Meeting

AGENCY: Federal Railroad Administration (FRA), Department of Transportation (DOT).

ACTION: Notice of public meeting.

SUMMARY: FRA announces the sixty-third meeting of the Railroad Safety Advisory Committee (RSAC), a Federal Advisory Committee that develops railroad safety regulations through a consensus process.

DATES: The RSAC meeting is scheduled for Monday, December 12, 2022. The meeting will commence at 9:30 a.m. and will adjourn by 11:30 a.m. (all times Eastern Standard Time). Requests to attend the meeting must be received by December 2, 2022. Requests for accommodations because of a disability must be received by December 2, 2022.

ADDRESSES: The RSAC meeting will be held by Microsoft Teams and by telephone. Virtual and telephonic attendance information will be provided upon registration with either of the individuals listed in the FOR FURTHER INFORMATION CONTACT section. Copies of the minutes of past meetings, along with general information about the committee, are available on the RSAC internet website at https://rsac.fra.dot.gov/.

FOR FURTHER INFORMATION CONTACT: Kenton Kilgore, RSAC Designated Federal Officer/RSAC Coordinator, FRA Office of Railroad Safety, telephone: (202) 365-3724 or email: kenton.kilgore@dot.gov; or Thomas Woodhams, Executive Officer, FRA Office of Railroad Safety, telephone: (504) 232-6601or email: thomas.woodhams@dot.gov. Any committee-related request should be sent to the persons listed in this section.

SUPPLEMENTARY INFORMATION: Pursuant to Section 10(a)(2) of the Federal Advisory Committee Act (Pub. L. 92-463), FRA is giving notice of a meeting of the RSAC. The RSAC is composed of 51 voting representatives from 26 member organizations, representing various rail industry perspectives. The diversity of the Committee ensures a representative range of views and expertise necessary to discharge its responsibilities.

Public Participation: The meeting will be open to the public and attendance may be limited due to virtual and telephonic meeting constraints. To register to attend, please send an email to either of the individuals listed in the FOR FURTHER INFORMATION CONTACT section. The meeting is accessible to individuals with disabilities. DOT and FRA are committed to providing equal access to this meeting for all participants. If you need alternative formats or services because of a disability, please contact either of the individuals listed in the FOR FURTHER INFORMATION CONTACT section and submit your request by December 2, 2022. Any member of the public may submit a written statement to the committee at any time. If a member of the public wants to submit written materials to be reviewed by the committee during the meeting, the submission must be received by December 2, 2022.

Agenda Summary: The RSAC meeting topics will include updates on recent activity by RSAC Working Groups for: Passenger Safety; Track Standards; Roadway Worker Protection; Part 220 Electronic Devices; Confidential Close Call Reporting System; and Critical Incident Stress Plans. The detailed agenda will be posted on the RSAC internet website at least one week in advance of the meeting.

Issued in Washington, DC.
Amitabha Bose,
Administrator.

[FR Doc. 2022-24730 Filed 11-14-22; 8:45 am]

BILLING CODE 4910-06-P